DEPARTMENT OF THE TREASURY

United States Mint

Establish Pricing and Pricing Changes for 2019 United States Mint Numismatic Products

AGENCY: United States Mint, Department of the Treasury.

ACTION: Notice.

FOR FURTHER INFORMATION CONTACT: Katrina McDow, Marketing Specialist, Numismatic and Bullion Directorate; United States Mint; 801 9th Street NW, Washington, DC 20220; or call 202-354-8495.

SUPPLEMENTARY INFORMATION: The United States Mint is announcing pricing changes and new pricing for some 2019 United States Mint Numismatic Products. Please see the table below:

Product | 2019 retail price
United States Mint America the Beautiful Quarters Silver Proof Set™ | $36.95
United States Mint Silver Proof Set® | 54.95
United States Mint Limited Edition Silver Proof Set™ | 149.95
United States Mint Rocketship™ | 9.95

Authority: 31 U.S.C. 5111, 5112, 5132, & 9701.

Dated: February 4, 2019.
Mark Teskey,
Deputy Director, United States Mint.

[FR Doc. 2019-01636 Filed 2-7-19; 8:45 am]

BILLING CODE P